DEPARTMENT OF DEFENSE

Department of the Army

Availability of a Novel Target Technology for Exclusive, Partially Exclusive or Non-exclusive Licenses

AGENCY: U.S. Army Research Laboratory, DoD.

ACTION: Notice of availability.

SUMMARY: The Department of the Army announces the general availability of exclusive, partially exclusive or non-exclusive licenses relative to PCT application PCT/US99/02158 filed February 1, 1999 and all national phase applications for the designate countries and any patents issuing therefrom including any and all continuations, continuations-in-part, divisions, reissues, reexaminations, renewals or extensions thereof. The intellectual property shall generally be known as “Procedure for Detecting Lesion-induced Resonances in DNA using Millimeter or Submillimeter Wave Spectroscopy.” Licenses shall comply with 35 U.S.C. 209 and 37 CFR 404.

FOR FURTHER INFORMATION CONTACT: Michael Rause, U.S. Army Research Laboratory, Office of Research and Technology Applications, ATTN: AMSRL-CS-TT/Bldg. 434, Aberdeen Proving Ground, Maryland 21005-5425, Telephone (410) 278-5028.

SUPPLEMENTARY INFORMATION: None.

Gregory D. Showalter,
Army Federal Register Liaison Officer.

[FR Doc. 00-19129 Filed 7-27-00; 8:45 am]

BILLING CODE 3710-08-M